FEDERAL ELECTION COMMISSION

Sunshine Act Notices

Date and Time: Tuesday, December 5, 2002 at 10 a.m.

Place: 999 E Street, NW., Washington, DC.

Status: This meeting will be closed to the public.

Items to be Discussed: Compliance matters pursuant to 2 U.S.C. 437g.

Audits conducted pursuant to 2 U.S.C. 437g, § 438(b), and Title 26, U.S.C.

Matters concerning participation in civil actions or proceedings or arbitration.

Internal personnel rules and procedures or matters affecting a particular employee.

* * * * *

Date and Time: Thursday, December 7, 2002 at 10 a.m.

Place: 999 E Street, NW., Washington, DC (Ninth Floor).

Status: This meeting will be closed to the public.

Items to be Discussed: Correction and approval of minutes.

A plan for implementing the 2002 Voting System Standards.

Final Audit: Buchanan Foster, Inc.

Final Audit: Gore 2000, Inc. (Primary).

Final Audit: Gore/Lieberman, Inc. and Gore/Lieberman General Election Legal and Accounting Compliance Fund (General).

Draft Advisory Opinion 2002-12: American Medical Security, Inc. by counsel, Brady C. Williamson and Mike B. Wittenwyler.

Final rules and explanation and justification on Coordinated and Independent Expenditures.

Administrative matters.

FOR FURTHER INFORMATION CONTACT: Mr. Ron Harris, Press Officer, Telephone: (202) 694-1220.

Mary W. Dove,
Secretary of the Commission.

[FR Doc. 02-30497 Filed 11-26-02; 3:04 pm]

BILLING CODE 6715-01-M